DEPARTMENT OF COMMERCE

National Oceanic and Atmospheric Administration (NOAA)

National Climate Assessment and Development Advisory Committee (NCADAC)

AGENCY: Office of Oceanic and Atmospheric Research (OAR), National Oceanic and Atmospheric Administration (NOAA), Department of Commerce (DOC).

ACTION: Notice of time changes for public meeting and public comment period.

SUMMARY: The National Climate Assessment and Development Advisory Committee (NCADAC) was established by the Secretary of Commerce under the authority of the Global Change Research Act of 1990 to synthesize and summarize the science and information pertaining to current and future impacts of climate.

Time and Date: The meeting will be held November 16 from 8:30 a.m. to 3 p.m. and November 17, 2011, from 9 a.m. to 3 p.m. These times are subject to change. Please refer to the Web page http://www.nesdis.noaa.gov/NCADAC/index.html for changes and for the most up-to-date meeting agenda.

Federal Register Citation of Previous Announcement 76 65183

Date and Time of Previously Announced Meeting: November 16-17, 2011, at the following times: November 16, 2011, from 9 a.m. to 5 p.m.; November 17, 2011, from 9 a.m. to 3 p.m. Public comment period November 16, 2011 at 5 p.m.

Place: The meeting will be held at the NOAA Earth System Research Laboratory—David Skaggs Research Center (DSRC), 325 Broadway, Boulder, CO 80305-3337. Please check the Web site http://www.nesdis.noaa.gov/NCADAC/index.html for confirmation of the venue and for directions.

Status: Seating will be available on a first come, first serve basis. Members of the public must RSVP in order to attend all or a portion of the meeting by contacting the NCADAC DFO (Cynthia.Decker@noaa.gov) by November 1, 2011. The meeting will be open to public participation with a 30 minute public comment period on November 16 at 3:30 p.m. (check Web site to confirm time). The NCADAC expects that public statements presented at its meetings will not be repetitive of previously submitted verbal or written statements. In general, each individual or group making a verbal presentation will be limited to a total time of five (5) minutes. Individuals or groups planning to make a verbal presentation should contact the NCADAC DFO (Cynthia.Decker@noaa.gov) by November 10, 2011 to schedule their presentation. Written comments should be received in the NCADAC DFO's Office by November 10, 2011 to provide sufficient time for NCADAC review. Written comments received by the NCADAC DFO after November 10, 2011 will be distributed to the NCADAC, but may not be reviewed prior to the meeting date.

Special Accommodations: These meetings are physically accessible to people with disabilities. Requests for sign language interpretation or other auxiliary aids should be directed to Dr. Cynthia Decker (301) 563-6162, (Cynthia.decker@noaa.gov) by November 1, 2011.

FOR FURTHER INFORMATION CONTACT: Dr. Cynthia Decker, Designated Federal Official, National Climate Assessment and Development Advisory Committee, NOAA OAR, R/SAB, 1315 East-West Highway, Silver Spring, Maryland 20910. (Phone: (301) 734-1156, Fax: (301) 713-1459, Email: Cynthia.Decker@noaa.gov; or visit the NCADAC Web site at http://www.nesdis.noaa.gov/NCADAC/index.html.

SUPPLEMENTARY INFORMATION: A “world café” engagement exercise will be demonstrated from 3:30—5:30 p.m. on November 16, 2011 at the same location as the meeting. The public is welcome to attend this event.

Dated: November 4, 2011.
Mark E. Brown,
Chief Financial Officer/Chief Administrative Officer, Office of Oceanic and Atmospheric Research, National Oceanic and Atmospheric Administration.

[FR Doc. 2011-29091 Filed 11-9-11; 8:45 am]

BILLING CODE 3510-KD-P